DEPARTMENT OF THE INTERIOR

Fish and Wildlife Service

[FWS-R8-ES-2011-N070; 80221-1113-0000-F5]

Endangered Species Recovery Permit Applications

AGENCY: Fish and Wildlife Service, Interior.

ACTION: Notice of receipt of permit applications; request for comment.

SUMMARY: We, the U.S. Fish and Wildlife Service, invite the public to comment on the following applications to conduct certain activities with endangered species. With some exceptions, the Endangered Species Act (Act) prohibits activities with endangered and threatened species unless a Federal permit allows such activity. The Act also requires that we invite public comment before issuing these permits.

DATES: Comments on these permit applications must be received on or before May 11, 2011.

ADDRESSES: Written data or comments should be submitted to the U.S. Fish and Wildlife Service, Endangered Species Program Manager, Region 8, 2800 Cottage Way, Room W-2606, Sacramento, CA 95825 (telephone: 916-414-6464; fax: 916-414-6486). Please refer to the respective permit number for each application when submitting comments.

FOR FURTHER INFORMATION CONTACT: Daniel Marquez, Fish and Wildlife Biologist; see ADDRESSES (telephone: 760-431-9440; fax: 760-431-9624).

SUPPLEMENTARY INFORMATION: The following applicants have applied for scientific research permits to conduct certain activities with endangered species under section 10(a)(1)(A) of the Act (16 U.S.C. 1531 et seq.). We seek review and comment from local, State, and Federal agencies and the public on the following permit requests. Before including your address, phone number, e-mail address, or other personal identifying information in your comment, you should be aware that your entire comment—including your personal identifying information—may be made publicly available at any time. While you can ask us in your comment to withhold your personal identifying information from public review, we cannot guarantee that we will be able to do so.

Permit No. TE-210235

Applicant: Matthew W. McDonald, Idyllwild, California.

The applicant requests an amendment to an existing permit (September 1, 2010, 75 FR 53708) to take (harass by survey) the southwestern willow flycatcher (Empidonax traillii extimus) in conjunction with surveys throughout the range of the species in California for the purpose of enhancing the species' survival.

Permit No. TE-36500A

Applicant: Western Foundation of Vertebrate Zoology, Camarillo, California.

The applicant requests a permit to take (survey, capture, band, locate and monitor nests, and population monitor) the least Bell's vireo (Vireo bellii pusillus) in conjunction with surveys and population monitoring activities in Ventura County, California, for the purpose of enhancing the species' survival.

Permit No. TE-820658

Applicant: AECOM, San Diego, California.

The applicant requests an amendment to an existing permit (February 3, 1997, 62 FR 5030) to take (survey by pursuit) the Quino checkerspot butterfly (Euphydryas editha quino); take (harass by survey, capture, handle, relocate, and release) the unarmored threespine stickleback (Gasterosteus aculeatus williamsoni); take (harass by survey, capture, handle, release) the California tiger salamander (Ambystoma californiense), the Tipton kangaroo rat (Dipodomys nitratoides nitratoides), giant kangaroo rat (Dipodomys ingens), and Pacific pocket mouse (Perognathus longimembris pacificus); and take (locate and monitor nests) the California least tern (Sterna antillarum browni), light-footed clapper rail (Rallus longirostris levipes), and Yuma clapper rail (Rallus longirostris yumanensis) in conjunction with surveys and population monitoring activities throughout the range of each species in California for the purpose of enhancing the species' survival.

Permit No. TE-062907

Applicant: Forde Biological Consultants, Camarillo, California.

The applicant requests an amendment to an existing permit (March 20, 2007, 72 FR 13121) to take (harass by survey, capture, handle, measure, and release) the arroyo toad (Anaxyrus californicus) and mountain yellow-legged frog (Rana muscosa) in conjunction with surveys and population monitoring activities throughout the range of each species in California for the purpose of enhancing the species' survival.

Permit No. TE-045994

Applicant: U.S. Geological Survey, Biological Resources Division, Western Ecological Research Center, San Diego Field Station, San Diego, California.

The applicant requests an amendment to an existing permit (June 14, 2010, 75 FR 33633) to take (trap, capture, handle, take biological samples, attach transmitters, and release) the arroyo toad (Anaxyrus californicus) and take (apply hormone treatments, conduct cryopreservation activities, augment populations, and remove infertile eggs) the mountain yellow-legged frog (Rana muscosa) in conjunction with surveys, population monitoring, reproductive analysis, and genetic activities throughout the range of each species in California for the purpose of enhancing the species' survival.

Permit No. TE-005535

Applicant: Gilbert O. Goodlit, Ridgecrest, California.

The applicant requests an amendment to an existing permit (May 1, 2009, 74 FR 202337) to take (survey by pursuit) the Quino checkerspot butterfly (Euphydryas editha quino) in conjunction with surveys throughout the range of the species in California for the purpose of enhancing the species' survival.

Permit No. TE-38413A

Applicant: U.S. Geological Survey, Western Ecological Research Center, Henderson Field Station, Henderson, Nevada, California.

The applicant requests a permit to remove/reduce to possession the Eureka Valley dune grass (Swallenia alexandrae) and Eureka Dunes evening primrose (Oenothera californica) in conjunction with population monitoring, germination, and growth studies from Eureka Valley within Death Valley National Park, Inyo County, California, for the purpose of enhancing the species' survival.

Permit No. TE-034293

Applicant: U.S. Bureau of Reclamation, Klamath Falls, Oregon.

The applicant requests an amendment to an existing permit (November 15, 2000, 65 FR 69043) to take (survey, electrofish, measure, collect biological samples, assess health, PIT tag, salvage, transport, hold in captivity, translocate, release, display, and kill) the Lost River sucker (Deltistes luxatus) and the shortnose sucker (Chasmistes brevirostris) in conjunction with research involving distribution and abundance, die off, entrainment and genetic studies in Klamath County, Oregon, for the purpose of enhancing the species' survival.

Permit No. TE-212445

Applicant: Robert A. Schell, San Rafael, California.

The applicant requests an amendment to an existing permit (May 1, 2009, 74 FR 202337) to take (survey, capture, handle, collect biological samples, and release) the California tiger salamander (Ambystoma californiense) in conjunction with genetic analysis throughout the range of the species in California for the purpose of enhancing the species' survival.

Permit No. TE-066455

Applicant: Scot A. Chandler, Murrieta, California.

The applicant requests an amendment to an existing permit (January 31, 2003, 68 FR 5037) to take (capture, collect, and kill) the Conservancy fairy shrimp (Branchinecta conservatio), the longhorn fairy shrimp (Branchinecta longiantenna), the Riverside fairy shrimp (Streptocephalus wootoni), the San Diego fairy shrimp (Branchinecta sandiegonensis), and the vernal pool tadpole shrimp (Lepidurus packardi) in conjunction with survey activities throughout the range of each species in California for the purpose of enhancing the species' survival.

Permit No. TE-37418A

Applicant: William T. Bean, Berkeley, California.

The applicant requests a permit to take (capture, handle, mark, release, and recapture) the giant kangaroo rat (Dipodomys ingens) in conjunction with surveys and population monitoring studies at the Ciervo-Panoche Natural Area in eastern San Benito and western Fresno Counties, California, for the purpose of enhancing the species' survival.

Permit No. TE-807078

Applicant: Point Reyes Bird Observatory, Petaluma, California.

The applicant requests an amendment to an existing permit (May 1, 2009, 73 FR 20337) to take (locate and monitor nests) the California least tern (Sterna antillarum browni) in conjunction with population monitoring activities throughout the range of the species in California for the purpose of enhancing the species' survival.

Permit No. TE-38475A

Applicant: Jeffrey M. Lemm, Poway, California.

The applicant requests a permit to take (survey, trap, capture, handle, implant tags, collect, take biological samples, transport, release, captive rear, captive breed, augment populations, and release to unoccupied sites) the mountain yellow-legged frog (Rana muscosa) in conjunction with surveys, population monitoring, captive breeding, reproductive analysis, and genetic activities throughout the range of the species in California for the purpose of enhancing the species' survival.

Permit No. TE-166393

Applicant: Pete C. Trenham, Bellingham, Washington.

The applicant requests an amendment to an existing permit (November 6, 2007, 72 FR 62669) to take (survey, capture, handle, identify, measure, and release) the California tiger salamander (Ambystoma californiense) in conjunction with conducting focused training seminars in occupied habitat throughout the range of the species in California for the purpose of enhancing the species' survival.

Permit No. TE-195305

Applicant: Andres Aguilar, Merced, California.

The applicant requests an amendment to an existing permit (October 29, 2008, 73 FR 64360) to take (capture, collect, and kill) the Conservancy fairy shrimp (Branchinecta conservatio), the longhorn fairy shrimp (Branchinecta longiantenna), in conjunction with surveys and genetic research Contra Costa, Glenn, Merced, San Luis Obispo, Solano, Stanislaus, and Ventura Counties, California, for the purpose of enhancing the species' survival.

We invite public review and comment on each of these recovery permit applications. Comments and materials we receive will be available for public inspection, by appointment, during normal business hours at the address listed in the ADDRESSES section of this notice.

Michael Long,
Acting Regional Director, Region 8, Sacramento, California.

[FR Doc. 2011-8509 Filed 4-8-11; 8:45 am]

BILLING CODE 4310-55-P